DEPARTMENT OF EDUCATION

Applications for New Awards; Research Networks Focused on Critical Problems of Education Policy and Practice, and Improving Pandemic Recovery Efforts in Education Agencies

AGENCY: Institute of Education Sciences, Department of Education.

ACTION: Notice.

SUMMARY: The Department of Education (Department) is issuing a notice inviting applications for new awards for fiscal year (FY) 2022 for the Research Networks Focused on Critical Problems of Education Policy and Practice, and the Improving Pandemic Recovery Efforts in Education Agencies, Assistance Listing Numbers 84.305N and 84.305X. This notice relates to the approved information collection under OMB control number 4040-0001.

DATES:

Applications Available: December 16, 2021.

Deadline for Transmittal of Applications: March 10, 2022.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: For the Research Networks Focused on Critical Problems of Education Policy and Practice competition (84.305N): Erin Higgins. Telephone: (202) 706-8509. Email: Erin.Higgins@ed.gov. For the Improving Pandemic Recovery Efforts in Education Agencies competition (84.305X): Allen Ruby. Telephone: (202) 245-8145. Email: Allen.Ruby@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: Through the National Center for Education Research (NCER), the Institute of Education Sciences (Institute) provides support for programs of research in areas of demonstrated national need. The Institute's research grant programs are designed to provide interested individuals and the general public with reliable and valid information about education practices that support learning and improve academic achievement and access to education opportunities for all learners.

Through the Research Networks Focused on Critical Problems of Education Policy and Practice grant program, NCER focuses resources and attention on specific education problems or issues that are a high priority for the Nation. NCER also establishes both a structure and process for researchers who are working on these issues to share ideas, build new knowledge, and strengthen their research and dissemination capacity. Through this program, NCER seeks to establish the Leveraging Evidence to Accelerate Recovery Nationwide Network.

Through the Improving Pandemic Recovery Efforts in Education Agencies grant program, NCER seeks to establish two research networks, with one examining recovery activities in prekindergarten through grade 12 and the other examining recovery activities in community colleges.

Competitions in This Notice: The Institute's NCER is announcing two competitions—one focused on leveraging evidence to accelerate recovery and one on improving pandemic recovery activities in education agencies.

Research Networks Focused on Critical Problems of Education Policy and Practice. Under this competition, NCER will consider only applications that address the following topic:

• Leveraging Evidence to Accelerate Recovery Nationwide Network, which includes:

○ Network Scaling Lead.

○ Product Teams.

Improving Pandemic Recovery Efforts in Education Agencies. Under this competition, NCER will consider only applications that address one of the following topics:

• Pre-K through Grade 12 Recovery Research Network, which includes:

○ Network Lead.

○ Research Teams.

• Community College Recover Research Network, which includes:

○ Network Lead.

○ Research Teams.

Exemption from Proposed Rulemaking: Under section 191 of the Education Sciences Reform Act, 20 U.S.C. 9581, the Institute is not subject to section 437(d) of the General Education Provisions Act, 20 U.S.C. 1232(d), and is therefore not required to offer interested parties the opportunity to comment on priorities, selection criteria, definitions, and requirements.

Program Authority: 20 U.S.C. 9501 et seq. and the American Rescue Plan Act of 2021 (ARP) (Pub. L. 117-2) Sec. 2010.

Applicable Regulations: (a) The Education Department General Administrative Regulations in 34 CFR parts 77, 81, 82, 84, 86, 97, 98, and 99. In addition, the regulations in 34 CFR part 75 are applicable, except for the provisions in 34 CFR 75.100, 75.101(b), 75.102, 75.103, 75.105, 75.109(a), 75.200, 75.201, 75.209, 75.210, 75.211, 75.217(a)-(c), 75.219, 75.220, 75.221, 75.222, 75.230, and 75.708. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

Note: The open licensing requirement in 2 CFR 3474.20 does not apply for these competitions.

Note: Projects will be awarded and must be operated in a manner consistent with the nondiscrimination requirements contained in Federal civil rights laws.

II. Award Information

Types of Awards: Cooperative agreements.

Fiscal Information: These competitions will be supported with funds appropriated through the ARP. Note that ARP funds may only be used to support activities that involve “research related to addressing learning loss caused by the coronavirus among the student subgroups described in section 1111(b)(2)(B)(xi) of the Elementary and Secondary Education Act of 1965 (20 U.S.C. 6311(b)(2)(B)(xi)) and students experiencing homelessness and children and youth in foster care, and to disseminate such findings to State educational agencies and local educational agencies and other appropriate entities.”

Estimated Range of Awards: For the Research Networks Focused on Critical Problems of Education Policy and Practice competition (84.305N): $1,000,000 to $3,000,000. For the Improving Pandemic Recovery Efforts in Education Agencies competition (84.305X): $1,000,000 to $3,000,000. The size of the awards will depend on the type and scope of the projects proposed.

Maximum Awards: For all of the Institute's competitions, applications should include budgets no higher than the relevant maximum award as set out in the relevant RFA. The Institute will not make an award exceeding the maximum award amounts identified in the RFA and in this notice. For the Research Networks Focused on Critical Problems of Education Policy and Practice competition, the maximum awards are $1,000,000 for the product team grants and $3,000,000 for the network scaling lead grant. For the Improving Pandemic Recovery Efforts in Education Agencies competition, the maximum awards are $3,000,000 for the research team grants and $3,000,000 for the network lead grants.

Estimated Number of Awards: The number of awards made under each competition will depend on the quality of the applications received, the availability of funds, and the following limits on awards for the Research Networks Focused on Critical Problems of Education Policy and Practice competition and the Improving Pandemic Recovery Efforts in Education Agencies competition.

The Institute may waive any of the following limits on awards for both competitions in the special case that the peer review process results in a tie between two or more grant applications, making it impossible to adhere to the limits without funding only some of the equally ranked applications. In that case, the Institute may make a larger number of awards to include all applications of the same rank.

For the Research Networks Focused on Critical Problems of Education Policy and Practice competition, we intend to fund up to 10 grants for Product Teams and one grant for the Network Scaling Lead. However, should funding be available, we may consider making additional awards to high-quality applications that remain unfunded after these maximum limits are met.

For the Improving Pandemic Recovery Efforts in Education Agencies competition, we intend to fund up to five research teams and one network lead under the Prekindergarten through Grade 12 Recovery Research Network and up to five research teams and one network lead under the Community College Recovery Research Network. However, should funding be available, we may consider making additional awards to high-quality applications that remain unfunded after these maximum limits are met.

Note: The Department is not bound by any estimates in this notice.

Project Period: Up to 60 months.

III. Eligibility Information

1. Eligible Applicants: Applicants that have the ability and capacity to conduct scientifically valid research are eligible to apply. These include, but are not limited to, nonprofit and for-profit organizations and public and private agencies and institutions of higher education, such as colleges and universities. For the Improving Pandemic Recovery Activities in Education Agencies, research team applications must include an eligible education agency or community college system. Eligible education agencies are State and local agencies (including U.S. Territory and Tribal agencies) that oversee prekindergarten, elementary, secondary, postsecondary, and/or adult education as well as State and city community college systems implementing the recovery programs or policies.

2. a. Cost Sharing or Matching: These competitions do not require cost sharing or matching.

b. Indirect Cost Rate Information: For information regarding indirect costs, or to obtain a negotiated indirect cost rate, please see www2.ed.gov/about/offices/list/ocfo/intro.html.

3. Subgrantees: Under 34 CFR 75.708(b) and (c) a grantee under this competition may award subgrants—to directly carry out project activities described in its application—to the following types of entities: Nonprofit and for-profit organizations and public and private agencies and institutions of higher education. The grantee may award subgrants to entities it has identified in an approved application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Other Information: Information regarding program and application requirements for the competitions will be contained in the NCER Requests for Applications (RFAs), which will be available on or before December 16, 2021, on the Institute's website at: https://ies.ed.gov/funding/. Application packages for these competitions will be available on or before December 16, 2021.

3. Content and Form of Application Submission: Requirements concerning the content of an application are contained in the RFA for the specific competition. The forms that must be submitted are in the application package for the specific competition.

4. Submission Deadline: March 10, 2022, 11:59:59 p.m. Eastern Time.

We do not consider an application that does not comply with the deadline requirements.

5. Intergovernmental Review: These competitions are not subject to Executive Order 12372 and the regulations in 34 CFR part 79.

6. Funding Restrictions: We reference regulations outlining funding restrictions in the Applicable Regulations section of this notice.

V. Application Review Information

1. Selection Criteria: For all of its grant competitions, the Institute uses selection criteria based on a peer-review process that has been approved by the National Board for Education Sciences. The Peer Review Procedures for Grant Applications can be found on the Institute's website at https://ies.ed.gov/director/sro/peer_review/application_review.asp.

For the 84.305N competition, peer reviewers will be asked to evaluate the significance of the application; the quality of the product improvement plan or network and scaling activities (depending on the type of application); the qualifications and experience of the personnel; the resources of the applicant to support the proposed activities; and the quality of the dissemination history and dissemination plan if the application is for the Product Teams role. These criteria are described in greater detail in the RFA.

For the 84.305X competition, peer reviewers will be asked to evaluate the significance of the application, the quality and logic of the research plan, the quality and appropriateness of the personnel, the quality and availability of resources, and the quality and relevance of the dissemination history and plan. These criteria are described in greater detail in the RFA.

2. Review and Selection Process: We remind potential applicants that in reviewing applications in any discretionary grant competition, the Institute may consider, under 34 CFR 75.217(d)(3), the past performance of the applicant in carrying out a previous award, such as the applicant's use of funds, achievement of project objectives, and compliance with grant conditions. The Institute may also consider whether the applicant failed to submit a timely performance report or submitted a report of unacceptable quality.

In addition, in making a competitive grant award, the Institute also requires various assurances including those applicable to Federal civil rights laws that prohibit discrimination in programs or activities receiving Federal financial assistance from the Department (34 CFR 100.4, 104.5, 106.4, 108.8, and 110.23).

3. Risk Assessment and Specific Conditions: Consistent with 2 CFR 200.206, before awarding grants under these competitions, the Department conducts a review of the risks posed by applicants. Under 2 CFR 200.208, the Institute may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants should budget for an annual 3-day meeting for project directors to be held in Washington, DC.

4. Reporting: (a) If you apply for a grant under one of the competitions announced in this notice, you must ensure that you have in place the necessary processes and systems to comply with the reporting requirements in 2 CFR part 170 should you receive funding under the competition. This does not apply if you have an exception under 2 CFR 170.110(b).

(b) At the end of your project period, you must submit a final performance report, including financial information, as directed by the Institute. If you receive a multiyear award, you must submit an annual performance report that provides the most current performance and financial expenditure information as directed by the Institute under 34 CFR 75.118. The Institute may also require more frequent performance reports under 34 CFR 75.720(c). For specific requirements on reporting, please go to www.ed.gov/fund/grant/apply/appforms/appforms.html.

5. Performance Measures: To evaluate the overall success of its education research grant programs, the Institute annually assesses the percentage of projects that result in peer-reviewed publications and the number of Institute-supported interventions with evidence of efficacy in improving learner education outcomes. These measures were established under the authority in 34 CFR 75.110.

6. Continuation Awards: In making a continuation award under 34 CFR 75.253, the Institute considers, among other things: Whether a grantee has made substantial progress in achieving the goals and objectives of the project; whether the grantee has expended funds in a manner that is consistent with its approved application and budget; and, if the Institute has established performance measurement requirements, whether the grantee has made substantial progress in achieving the performance targets in the grantee's approved application.

In making a continuation award, the Institute also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the appropriate program contact person listed under FOR FURTHER INFORMATION CONTACT, individuals with disabilities can obtain this document and a copy of the RFA in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

[FR Doc. 2021-26765 Filed 12-9-21; 8:45 am]

BILLING CODE 4000-01-P